INTERNATIONAL TRADE COMMISSION

[Investigation Nos. 731-TA-771-772 and 775 (Fourth Review)]

Stainless Steel Wire Rod From Japan, South Korea, and Taiwan

Determinations

On the basis of the record ¹ developed in the subject five-year reviews, the United States International Trade Commission (“Commission”) determines, pursuant to the Tariff Act of 1930 (“the Act”), that revocation of the antidumping duty orders on stainless steel wire rod from Japan, South Korea, and Taiwan would be likely to lead to continuation or recurrence of material injury to an industry in the United States within a reasonably foreseeable time.

¹ The record is defined in § 207.2(f) of the Commission's Rules of Practice and Procedure (19 CFR 207.2(f)).

Background

The Commission instituted these reviews on July 1, 2021 (86 FR 35124) and determined on October 4, 2021, that it would conduct expedited reviews (86 FR 72994, December 23, 2021).

The Commission made these determinations pursuant to section 751(c) of the Act (19 U.S.C. 1675(c)). It completed and filed its determinations in these reviews on February 10, 2022. The views of the Commission are contained in USITC Publication 5279 (February 2022), entitled Stainless Steel Wire Rod from Japan, South Korea, and Taiwan: Investigation Nos. 731-TA-771-772, and 775 (Fourth Review).

By order of the Commission.
Issued: February 10, 2022.
Lisa Barton,
Secretary to the Commission.

[FR Doc. 2022-03289 Filed 2-15-22; 8:45 am]

BILLING CODE 7020-02-P